NUCLEAR REGULATORY COMMISSION

[Docket No. 55-23694-SP; ASLBP No. 13-925-01-SP-BD01]

Atomic Safety and Licensing Board; In the Matter of Charlissa C. Smith (Denial of Senior Reactor Operator License); Notice of Hearing

May 21, 2013.

Before Administrative Judges: Ronald M. Spritzer, Chair, William J. Froehlich, Brian K. Hajek

The Atomic Safety and Licensing Board hereby gives notice that a hearing will be conducted in this proceeding pursuant to the Board's February 19, 2013, Order granting Ms. Charlissa Smith's demand for hearing. LBP-13-03, 77 NRC __ (2013). This hearing will consider Ms. Smith's arguments related to her allegation that the NRC wrongfully denied her application for a Senior Reactor Operator license.

The hearing will occur on Thursday, July 18, 2013, and will commence at 9:00 a.m. EDT. The hearing will be held in Room A of the Augusta Public Library, 823 Telfair Street, Augusta, GA 30901. It will be conducted in accordance with 10 CFR part 2, subpart L. Members of the public and representatives of the media are welcome to attend and observe the hearing. Please note that all signs, banners, posters, demonstrations, and displays are prohibited in accordance with NRC policy. See 66 FR 31719 (June 12, 2001).

Documents related to this proceeding are available for public inspection via the Nuclear Regulatory Commission's Agencywide Documents Access and Management System (ADAMS), which can be accessed through http://www.nrc.gov/reading-rm/adams.html#web-based-adams. General information regarding adjudicatory proceedings, including the provisions of Subpart L, can be found on the Atomic Safety and Licensing Board Panel's Web page, located at http://www.nrc.gov/about-nrc/regulatory/adjudicatory.html.

It is so ordered.

Dated: May 21, 2013. Rockville, Maryland.
For the Atomic Safety and Licensing Board.
Ronald M. Spritzer,
Chair, Administrative Judge.

[FR Doc. 2013-12585 Filed 5-24-13; 8:45 am]

BILLING CODE 7590-01-P